DEPARTMENT OF THE INTERIOR

National Park Service

[NPS-WASO-NAGPRA-NPS0027144; PPWOCRADN0-PCU00RP14.R50000]

Notice of Inventory Completion: U.S. Fish and Wildlife Service, Anchorage, AK

AGENCY: National Park Service, Interior.

ACTION: Notice.

SUMMARY: The U.S. Fish and Wildlife Service, Alaska Region (Alaska Region USFWS) has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Alaska Region USFWS. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Alaska Region USFWS at the address in this notice by March 11, 2019.

ADDRESSES: Edward DeCleva, Regional Historic Preservation Officer, Alaska Region U.S. Fish and Wildlife Service, 1011 East Tudor Road MS-235, Anchorage, AK 99503, telephone (907) 786-3399, email edward_decleva@fws.gov.

SUPPLEMENTARY INFORMATION: Notice is here given in accordance with the Native American Graves Protection and Repatriation Act (NAGPRA), 25 U.S.C. 3003, of the completion of an inventory of human remains under the control of the Alaska Region, USFWS, Anchorage, AK. The human remains were removed from Simeonof Island, Aleutians East Borough, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Alaska Region USFWS professional staff in consultation with representatives of Native Village of Unga and Qagan Tayagungin Tribe of Sand Point Village. Also consulted were four non-federally recognized groups—the Aleutian Pribilof Islands Association, Inc.; Shumagin Corporation; The Aleut Corporation; and Unga Corporation. Hereafter, all the entities listed in this section are referred to as “The Consulting Tribes.”

History and Description of the Remains

In 1977, human remains representing, at minimum, one individual were removed from Simeonof Island in the Aleutians East Borough, AK. Little information regarding the circumstances of removal was available to the Alaska Region USFWS. The human remains—a cranium were recovered on Simeonof Island by J. Beck on September 22, 1977. The cranium was turned over to the Alaska Region USFWS in Anchorage and later sent to the Alaska State Office of History and Archeology for inventory in 2008. The cranium consists of several fragmentary pieces. No known individuals were identified. No associated funerary objects are present.

The cranium is that of an adult female, approximately 40 years old. Metric and non-metric cranial features were utilized to determine cultural affiliation. The human remains indicate the person to be of Native Alaskan descent, most likely Aleut.

Determinations Made by the Alaska Region USFWS

Officials of the Alaska Region USFWS have determined that:

• Pursuant to 25 U.S.C. 3001(9), the human remains described in this notice represent the physical remains of one individual of Native American ancestry.

• Pursuant to 25 U.S.C. 3001(2), there is a relationship of shared group identity that can be reasonably traced between the Native American human remains and the Qagan Tayagungin Tribe of Sand Point.

Additional Requestors and Disposition

Lineal descendants or representatives of any Indian Tribe or Native Hawaiian organization not identified in this notice that wish to request transfer of control of these human remains should submit a written request with information in support of the request to Edward DeCleva, Regional Historic Preservation Officer, Alaska Region U.S. Fish and Wildlife Service, 1011 East Tudor Road, MS-235, Anchorage, AK 99503, telephone (907) 786-3399, email edward_decleva@fws.gov, by March 11, 2019. After that date, if no additional requestors have come forward, transfer of control of the human remains to the Qagan Tayagungin Tribe of Sand Point may proceed.

The Alaska Region USFWS is responsible for notifying The Consulting Tribes that this notice has been published.

Dated: December 11, 2018.
Melanie O'Brien,
Manager, National NAGPRA Program.

[FR Doc. 2019-01613 Filed 2-7-19; 8:45 am]

BILLING CODE 4312-52-P